DEPARTMENT OF THE INTERIOR

National Park Service

Correction—Notice of Inventory Completion for Native American Human Remains and Associated Funerary Objects in the Possession of the Peabody Museum of Archaeology and Ethnology, Harvard University, Cambridge, MA

AGENCY: National Park Service, Interior

ACTION: Correction

Notice is hereby given in accordance with provisions of the Native American Graves Protection and Repatriation Act (NAGPRA), 43 CFR 10.9, of the completion of an inventory of human remains and associated funerary objects in the possession of the Peabody Museum of Archaeology and Ethnology, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

This notice corrects the list of tribes in the Notice of Inventory Completion published April 3, 2001 (Federal Register Document 01-8170, pages 17733-17735) to whom repatriation of the human remains may begin after May 3, 2001 if no additional claimants come forward. In the last paragraph of the April 3, 2001, notice, add the following tribe to the list of tribes following “Repatriation of the human remains to . . .”: Spirit Lake Tribe, North Dakota.

Dated: April 23, 2001
John Robbins,
Assistant Director, Cultural Resources Stewardship and Partnerships

[FR Doc. 01-12020 Filed 5-11-01; 8:45 am]

BILLING CODE 4310-70-F